DEPARTMENT OF THE INTERIOR

National Park Service

Funding Assistance for Non-Federal Acquisition of Civil War Battlefield Land

AGENCY: National Park Service, Interior.

ACTION: Availability of Funding for Acquisition of Civil War Battlefield Land.

SUMMARY: The National Park Service (NPS) announces the availability of funds to assist States and local communities in acquiring for permanent protection lands, or interests in lands, at significant Civil War battlefield sites.

ADDRESSES: Funding proposals should be mailed to: Hampton Tucker, National Park Service, Heritage Preservation Services 1849 C Street, NW, NC 200, Washington, DC 20240, telephone (202) 343-3580.

FOR FURTHER INFORMATION CONTACT: Hampton Tucker, National Park Service, Heritage Preservation Services, 1849 C Street NW, NC 200, Washington, DC 20240; telephone (202) 343-3580.

SUPPLEMENTARY INFORMATION: Under the 1999 Interior Appropriations Act (Public Law 105-83), Congress appropriated $8 million from the Land & Water Conservation Fund to assist non-Federal efforts to acquire and preserve Civil War battlefield lands. The Congress assigned most of these funds to specific projects. At this time, it appears that a portion of these funds will be left unspent and will be reassigned to other worthy projects. NPS seeks proposals from State and local governments—or from qualified non-profit historic preservation organizations acting through an agency of State or local government—for the non-federal acquisition of significant Civil War battlefield land.

Project proposals are subject to the following requirements:

1. The 1999 Appropriations Act requires that these funds be matched on a two-for-one basis with non-federal dollars. That is, the federal dollars can pay for no more that one-third of the acquisition cost.

2. The purchase price must be supported by a qualified appraisal that has been approved by NPS as meeting the Uniform Appraisal Standards for Federal Land Acquisitions.

3. The battlefield land acquired with the assistance of these funds must be permanently protected from inappropriate development either through public ownership or through conveyance of a perpetual easement to a public historic preservation agency.

NPS will give priority to acquisition of land, or interests in land, within the “core” areas of Priority I and Priority II battlefields, as identified by the Congressionally-chartered Civil War Sites Advisory Commission (see list below). Among potential projects NPS will give highest priority to acquisition projects that can be completed within the immediate future.

Proposals should be submitted by July 14, 2000, and must include:

1. A carefully drawn map (preferably on a U.S.G.S. Quadrangle Map) that sets out the boundaries of the battlefield and identifies within those boundaries the specific lands to be acquired.

2. The number of acres of land to be acquired.

3. A description of the battle-related events that occurred on the land.

4. A statement of whether the owner of the land to be acquired has indicated a willingness to sell the land.

5. A statement of the owner's asking price and/or the estimated fair market value of the land to be acquired.

6. A statement of how much federal assistance from this program the applicant is requesting.

7. A statement of how much matching share is already on hand or firmly pledged.

Priority I Civil War Battlefields

Alabama Mobile Bay (Ft Morgan & Blakeley); Arkansas Prairie Grove; Georgia Allatoona, Chickamauga Kennesaw Mountain, Ringgold Gap; Kentucky Mill Springs, Perryville; Louisiana Port Hudson; Maryland Antietam, Monocacy, South Mountain; Mississippi Brices Cross Roads, Chickasaw Bayou, Corinth, Port Gibson, Raymond, Vicksburg; Missouri Byram's Ford, Fort Davidson, Newtonia; New Mexico Glorieta, Pass; North Carolina Bentonville, Fort Fisher; Oklahoma Honey Springs; Pennsylvania Gettysburg; South Carolina Secessionville, Tennessee Chattanooga, Fort Donelson, Spring Hill; Virginia Boydton Plank Road, Brandy Station, Bristoe Station, Cedar Creek, Chaffin's Farm/New Market Heights, Chancellorsville, Cold Harbor, Deep Bottom II, Fisher's Hill, Gaines' Mill, Glendale, Kernstown I, Malvern Hill, Manassas, Second Mine Run, North Anna, Petersburg, Richmond, Spotsylvania Court House, White Oak Road, Wilderness; West Virginia Harpers Ferry, Rich Mountain.

Priority II Civil War Battlefields

Arkansas Chalk Bluff, Devil's Backbone, Elkin's Ferry, Marks' Mills, Prairie D'an; Colorado Sand Creek; Georgia Dalton I, Davis' Cross Road, Griswoldville, Kolb's Farm, Lovejoy's Station, New Hope Church, Resaca, Rocky Face Ridge; Kentucky Cynthiana, Munfordville, Richmond; Louisiana Fort De Russy, Irish Bend, LaFourche Crossing, Mansfield, Mansura; Maryland Boonsborough; Mississippi, Big Black River Bridge, Champion Hill, Grand Gulf, Okolona, Snyder's Bluff; Missouri Carthage, Fredericktown, Lexington, Lone Jack, Newtonia; New Mexico Valverde; North Carolina Monroe's Cross Roads, Roanoke Island, Wyse Fork; Oklahoma Chustenahlah; South Carolina Grimball's Landing, Honey Hill; Tennessee Brentwood, Fair Garden, Murfreesborough, Parker's Cross Roads, Thompson's Station; Texas Sabine Pass II; Virginia Aquia Creek, Berryville, Buckland Mills, Cedar Mountain, Cool Springs, Cross Keys, Cumberland Church, Dinwiddie Courthouse, 1st Deep Bottom, Hampton Roads, Hatcher's Run, Haw's Shop, Lewis' Farm, Peebles' Farm, Piedmont, Port Republic, Port Walthall Junction, Ream's Station, Rice's Station, Sailor's Creek, Saltville, Suffolk (Hill's Point), Sutherland's Station, Swift Creek, Tom's Brook, Trevilian Station, Ware Bottom Church, White Oak Swamp; West Virginia Hoke's Run, Smithfield Crossing, Summit Point.

Dated: May 19, 2000.
Paul Hawke,
Chief, American Battlefield Protection Program.

[FR Doc. 00-13090 Filed 5-23-00; 8:45 am]

BILLING CODE 4310-70-P